FEDERAL COMMUNICATIONS COMMISSION

Notice of Public Information Collection(s) Being Reviewed by the Federal Communications Commission for Extension Under Delegated Authority

August 18, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by October 21, 2003. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554, or via the Internet to Judith-B.Herman@fcc.gov.

FOR FURTHER INFORMATION CONTACT: For additional information or copies of the information collections contact Judith B. Herman at 202-418-0214 or via the Internet at Judith-B.Herman@fcc.gov.

SUPPLEMENTARY INFORMATION: OMB Control No.: 3060-0202.

Title: Section 87.37, Developmental License.

Form No.: N/A.

Type of Review: Extension of a currently approved collection.

Respondents: Individuals or households, business or other for profit, not-for-profit institutions, and State, local, or Tribal government.

Number of Respondents: 12.

Estimated Time Per Response: 8 hours.

Frequency of Response: Annual reporting requirement.

Total Annual Burden: 96 hours.

Annual Reporting and Recordkeeping Cost Burden: N/A.

Needs and Uses: The requirement in section 87.37 is necessary to enable the Commission to gather data on the results of developmental programs conducted in the Aviation Service for which developmental authorizations have been issued. The data is required to determine whether such developmental authorizations should be renewed and/or whether rulemaking proceedings should be initiated to provide generally for such operations in the Aviation Service. The information is used by Commission staff to determine the merits of the program for which a developmental authorization was granted. If such information were not collected, the value of developmental programs in the Aviation Service would be severely limited. The Commission would have little, if any, information available regarding the advantages and disadvantages of the subject developmental operations.

OMB Control No.: 3060-0222.

Title: Section 97.213, Remote Control of a Station.

Form No.: N/A.

Type of Review: Extension of a currently approved collection.

Respondents: Individuals or households, business or other for-profit entities.

Number of Respondents: 500.

Estimated Time Per Response: .2 hours (12 minutes).

Frequency of Response: Recordkeeping requirement.

Total Annual Burden: 100 hours.

Annual Reporting and Recordkeeping Cost Burden: N/A.

Needs and Uses: The recordkeeping requirement contained in section 97.213 consists of posting a photocopy of the amateur station license, a label with the name, address, and telephone number of the station licensee, and the name of at least one authorized control operator. This requirement is necessary so that quick resolution of any harmful interference problems can be identified and to ensure that the station is operating in accordance with the Communications Act of 1934, as amended. The information is used by FCC staff during inspections and investigations to assure that remotely controlled amateur radio stations are licensed in accordance with applicable rules, statutes and treaties. In the absence of this recordkeeping requirement, field inspections and investigations related to harmful interference could be severely hampered and needlessly prolonged due to inability to quickly obtain vital information about a remotely controlled station.

OMB Control No.: 3060-0259.

Title: Section 90.263, Substitution of Frequencies Below 25 MHz.

Form No.: N/A.

Type of Review: Extension of a currently approved collection.

Respondents: Business or other for profit, and State, local, or Tribal governments.

Number of Respondents: 60.

Estimated Time Per Response: .5 hours.

Frequency of Response: On occasion reporting requirement.

Total Annual Burden: 30 hours.

Annual Reporting and Recordkeeping Cost Burden: N/A.

Needs and Uses: Section 90.263 requires applicants proposing operations in certain frequency bands below 25 MHz to submit supplemental information showing such frequencies are necessary from a safety of life standpoint, and information regarding minimum necessary hours of operation. This requirement will be used by Commission staff in evaluating the applicant's need for such frequencies and the interference potential to other stations operating on the proposed frequencies.

OMB Control No.: 3060-0264.

Title: Section 80.413, On-Board Station Equipment Records.

Form No.: N/A.

Type of Review: Extension of a currently approved collection.

Respondents: Individuals or households, business or other for profit, not-for-profit institutions, and State, local, or Tribal government.

Number of Respondents: 1,000.

Estimated Time Per Response: 2 hours.

Frequency of Response: Recordkeeping requirement.

Total Annual Burden: 2,000 hours.

Annual Reporting and Recordkeeping Cost Burden: N/A.

Needs and Uses: The recordkeeping requirement contained in section 80.413 is necessary to document the number and type of transmitters operating under an on-board station license. The information is used by FCC staff during inspections and investigations to determine what mobile units and repeaters are associated with on-board stations aboard a particular vessel. If this information were not collected, no means would be available to determine if this type of radio equipment is authorized or who is responsible for its operation. Enforcement and frequency management programs would be negatively affected.

OMB Control No.: 3060-0297.

Title: Section 80.503, Cooperative Use of Facilities.

Form No.: N/A.

Type of Review: Extension of a currently approved collection.

Respondents: Individuals or households, business or other-for-profit, not-for-profit institutions, and State, local, or Tribal government.

Number of Respondents: 100.

Estimated Time Per Response: 16 hours.

Frequency of Response: Recordkeeping requirement.

Total Annual Burden: 1,600 hours.

Annual Reporting and Recordkeeping Cost Burden: N/A.

Needs and Uses: The recordkeeping requirements contained in section 80.503 are necessary to ensure licensees which share private facilities operate within the specified scope of service, on a non-profit basis, and do not function as communications common carriers providing ship-shore public correspondence services. The information is used by FCC staff during inspections and investigations to insure compliance with applicable rules. If this information was not available, enforcement efforts could be hindered, frequency congestion in certain bands could increase, and the financial viability of some public coast radiotelephone stations could be threatened.

Federal Communications Commission.
Marlene H. Dortch,
Secretary.

[FR Doc. 03-21503 Filed 8-21-03; 8:45 am]

BILLING CODE 6712-01-P